DEPARTMENT OF STATE

[Public notice 11545]

Notice of Receipt of Request From the Former Government of the Islamic Republic of Afghanistan Under Article 9 of the 1970 UNESCO Convention on the Means of Prohibiting and Preventing the Illicit Import, Export and Transfer of Ownership of Cultural Property

AGENCY: Department of State.

ACTION: Public notice.

SUMMARY: Notice of receipt of request from Afghanistan for cultural property protection.

FOR FURTHER INFORMATION CONTACT: Anne Compton, Cultural Heritage Center, Bureau of Educational and Cultural Affairs: 202-632-6571; culprop@state.gov; include “Afghanistan” in the subject line.

SUPPLEMENTARY INFORMATION: The former Government of the Islamic Republic of Afghanistan made a request to the Government of the United States under Article 9 of the 1970 UNESCO Convention on the Means of Prohibiting and Preventing the Illicit Import, Export and Transfer of Ownership of Cultural Property. The United States Department of State received this request on April, 28, 2021. The former Government of Afghanistan's request seeks U.S. import restrictions on archaeological and ethnological material representing Afghanistan's cultural patrimony. Pursuant to the authority vested in the Assistant Secretary of State for Educational and Cultural Affairs, and pursuant to 19 U.S.C. 2602(f)(1), notification of the request is hereby published. A public summary of the former Government of Afghanistan's request and information about U.S. implementation of the 1970 UNESCO Convention will be available at the Cultural Heritage Center website: http://culturalheritage.state.gov.

Allison Davis,
Executive Director CPAC, Bureau of Educational and Cultural Affairs, Department of State.

[FR Doc. 2021-20341 Filed 9-20-21; 8:45 am]

BILLING CODE 4710-05-P